DEPARTMENT OF ENERGY

Federal Energy Regulatory Commission

[Docket No. RP02-263-001]

Texas Eastern Transmission, LP; Notice of Compliance Filing

July 16, 2002.

Take notice that on July 10, 2002, Texas Eastern Transmission, LP (Texas Eastern) tendered for filing as part of its FERC Gas Tariff, Seventh Revised Volume No. 1, Sub First Revised Sheet No. 534, to be effective on July 1, 2002.

Texas Eastern states that the purpose of this filing is to comply with the directives of the Commission's Letter Order dated June 27, 2002, in Docket No. RP02-263 (June 27 Order).

Texas Eastern states that, on May 1, 2002, it filed revised tariff sheets in this docket to comply with Order No. 587-N. The June 27 Order conditionally accepted certain of the tariff sheets contained in Texas Eastern's May 1 tariff filing, effective July 1, 2002, subject to the condition that Texas Eastern file, within fifteen days of the June 27 Order, substitute revised tariff sheets to reflect the changes required by the June 27 Order. Texas Eastern is submitting this filing in compliance with the June 27 Order.

Texas Eastern states that copies of its filing have been mailed to all parties listed on the Service List compiled by the Secretary of the Commission in this docket.

Any person desiring to protest said filing should file a protest with the Federal Energy Regulatory Commission, 888 First Street, NE., Washington, DC 20426, in accordance with Section 385.211 of the Commission's Rules and Regulations. All such protests must be filed on or before July 23, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18393 Filed 7-19-02; 8:45 am]

BILLING CODE 6717-01-P